DEPARTMENT OF COMMERCE

International Trade Administration

Notice of Scope Rulings

AGENCY: Enforcement and Compliance, International Trade Administration, Department of Commerce.

DATES: Effective Date: December 11, 2014.

SUMMARY: The Department of Commerce (“Department”) hereby publishes a list of scope rulings and anticircumvention determinations made between July 1, 2014, and September 30, 2014, inclusive. We intend to publish future lists after the close of the next calendar quarter.

FOR FURTHER INFORMATION CONTACT: Brenda E. Waters, AD/CVD Operations, Customs Liaison Unit, Enforcement and Compliance, International Trade Administration, U.S. Department of Commerce, 14th Street and Constitution Avenue NW., Washington, DC 20230; telephone: 202-482-4735.

SUPPLEMENTARY INFORMATION:

Background

The Department's regulations provide that the Secretary will publish in the Federal Register a list of scope rulings on a quarterly basis.¹ Our most recent notification of scope rulings was published on August 12, 2014.² This current notice covers all scope rulings and anticircumvention determinations made by Enforcement and Compliance between July 1, 2014, and September 30, 2014, inclusive. Subsequent lists will follow after the close of each calendar quarter.

¹ See 19 CFR 351.225(o).

² See Notice of Scope Rulings, 79 FR 47093 (August 12, 2014).

Scope Rulings Made Between July 1, 2014 and September 30, 2014: Japan.

A-588-850: Large Diameter Carbon and Alloy Seamless Standard, Line, and Pressure Pipe from Japan

Requestor: U.S. Metals, Inc. (USM); USM's American Society for Testing and Materials (ASTM) A-335 ferritic alloy steel pipe (specifically, Grades P5, P9, and P11) which USM imports is not within the scope of the antidumping duty order because USM demonstrated that its pipe meets the exclusion under the scope of the order for ASTM A-335; July 24, 2014.

People's Republic of China

A-570-967 and C-570-968: Aluminum Extrusions from the People's Republic of China

Requestor: Titan Worldwide Industries Acquisition LLC (“Titan”); Titan's three types of scaffolding planks (Aluminum Stages, Aluminum Planks with Plywood Top, and Aluminum Scaffold Boards) are outside the scope of the orders because the scaffolding plank products in question are comprised of aluminum extrusions and non-extruded and/or non-aluminum components and enter as fully-assembled finished goods that are permanently assembled, completed, and are ready to use in a scaffolding system with no further modification subsequent to importation. As such, these products are fully assembled subassemblies ready for immediate installation and use in a larger system; July 8, 2014.

A-570-967 and C-570-968: Aluminum Extrusions from the People's Republic of China

Requestor: Signature Partners Inc. (“Signature”); Signature's auto trim kit, consisting of aluminum extrusions and non-aluminum extrusion components, is within the scope of the orders because the product does not enter the United States with all components necessary to complete the final automotive trim kit that is delivered to Signature's customer; July 17, 2014.

A-570-967 and C-570-968: Aluminum Extrusions from the People's Republic of China

Requestor: Dynasty Profiles, LLC (“Dynasty”); Dynasty's aluminum fence systems (specifically, Dynasty's Pool Enclosure Fence System, Fence System for Single Family Home, Fence System for Perimeter Wall, Front Yard Fence System, Corner Fence System, and Entry Gate System) are within the scope of the orders because the information provided by Dynasty was not substantial enough to overcome the weight of the evidence regarding the clear business pattern of the fence industry that the Department has seen in prior scope rulings. The Department found that the logistical and economic considerations of shipping aluminum extrusion fence components to the United States causes similar parts to be combined in bulk, and then be reprocessed or repackaged in the United States, and that Dynasty has not established that its aluminum fence systems differ from this industry pattern; July 22, 2014.

A-570-967 and C-570-968: Aluminum Extrusions from the People's Republic of China

Requestor: Five Lakes Trading, Inc. (“Five Lakes”); Five Lakes' pocket door track, which is extruded from alloy series 6063 aluminum and is cut-to-length and punched, is within the scope of the orders because it meets the description of merchandise subject to the orders; July 22, 2014.

A-570-967 and C-570-968: Aluminum Extrusions from the People's Republic of China

Requestor: SPX Cooling Technologies, Inc. (“SPX”); SPX's fan blade assemblies, which are composed of extruded aluminum fan blades, polypropylene end caps, a carbon steel shank, carbon steel counter weights, and steel blade hardware, are not within the scope of the orders because they are fully and permanently assembled at the time of entry and require no further finishing or fabrication prior to their use. Thus, the Department determined that the fan blade assemblies meet the exclusion criteria for subassemblies that are finished goods; July 25, 2014.

A-570-967 and C-570-968: Aluminum Extrusions from the People's Republic of China

Requestor: Larson Manufacturing Company (“Larson”); Larson's storm door accessory kits, which are comprised of a door handle assembly kit and a door expander/sweeper, are outside the scope of the orders. The Department first found that the first part of the storm door accessory kit, the door handle assembly kit, is not comprised of aluminum extrusions and, therefore, would not fall within the scope of the order. With respect to the door expander/sweeper, the Department found that this part contains more than just extruded aluminum components beyond fasteners and contains parts that are fully and permanently assembled and completed at the time of entry and ready to be installed on a storm door and, thus, meet the exclusion criteria for subassemblies that enter the United States as “finished goods.” Therefore, the Department determined that the storm door accessory kit as whole is a packaged combination of parts that contains, at the time of importation, all of the necessary parts to fully assemble a final finished good and requires no further finishing or fabrication, such as cutting or punching, and is assembled “as is” into a finished product. Thus, the storm door accessory kit meets the exclusion for a finished goods kit; August 1, 2014.

A-570-967 and C-570-968: Aluminum Extrusions from the People's Republic of China

Requestor: TACO Metals Inc. (“TACO”); TACO's universal backrest kits (consisting of: (i) two vertical support arms made of extruded and anodized 6 series aluminum and injection molded plastic sleeves; and (ii) one horizontal backrest made of PVC board backing, a soft urethane foam cushion, marine grade vinyl fabric; and (iii) hardware made of stainless steel) and universal T-Top kits (consisting of: (i) 2 side frames, a top frame, and a cross bar, each made of 6 series anodized extruded aluminum tubes, cast aluminum bar joints, cast aluminum plate bases, and nylon sleeves and caps; and (ii) hardware made of stainless steel) are outside the scope of the orders because both products enter the United States with all parts needed to assemble a final finished product; August 1, 2014.

A-570-967 and C-570-968: Aluminum Extrusions from the People's Republic of China

Requestor: Whirlpool Corporation (“Whirlpool”); Whirlpool's kitchen appliance door handles with plastic end caps consisting of alloy 6 series aluminum extrusions are within the scope of the orders. The non-aluminum components consist of plastic end caps that are attached by metal screws to the handle and the surface of the kitchen appliance door. The handles are ready for attachment to the refrigerator door upon importation. The Department determined that the kitchen handles at issue were comprised entirely of extruded aluminum and fasteners and, thus, fall inside the language of the scope that includes “aluminum extrusions which are shapes and forms, produced by an extrusion process.” The Department further noted that, “an imported product will not be considered a `finished goods kit' and, therefore, excluded from the scope of the investigation merely by including fasteners such as screws, bolts, etc. in the packaging with an aluminum extrusion product.” On this basis, the Department found the handles at issue to be inside the scope of the orders; August 4, 2014

A-570-967 and C-570-968: Aluminum Extrusions from the People's Republic of China

Requestor: Whirlpool Corporation (“Whirlpool”); Whirlpool's kitchen appliance door handles without plastic end caps consisting of alloy 6 series aluminum extrusions are within the scope of the orders. The handles are ready for attachment to the refrigerator door upon importation. The Department determined that the kitchen handles at issue were comprised entirely of extruded aluminum and fasteners and, thus, fall inside the language of the scope that includes “aluminum extrusions which are shapes and forms, produced by an extrusion process;” August 4, 2014.

A-570-967 and C-570-968: Aluminum Extrusions from the People's Republic of China

Requestor: Rheetech Sales & Services Inc. (“Rheetech”); Rheetech's aluminum frames for screen printing, with the mesh screen attached, are outside the scope of the orders because they are permanently assembled, completed, and ready for use at the time of entry and contain more than just aluminum extrusion components and fasteners. Thus, the Department determined that Rheetech's aluminum frames for screen printing, with the mesh screen attached, meet the exclusion criteria for subassemblies that are finished goods; August 7, 2014.

A-570-967 and C-570-968: Aluminum Extrusions from the People's Republic of China

Requestor: Districargo Inc. (“Districargo”); Districargo's exhibition booth kits, which are composed of an “upright aluminum extrusion” or pole, extruded aluminum beams, and various iron buckles that are used to connect the extruded aluminum pieces together are within the scope of the orders because the imported product is comprised of extruded aluminum products with a series designation commencing with the number 6, save for iron buckles that are used to connect the various extruded aluminum parts. The Department based its finding on the language in the scope of the order which states that, “an imported product will not be considered a `finished goods kit' and, therefore, excluded from the scope of the investigation merely by including fasteners such as screws, bolts, etc. in the packaging with an aluminum extrusion product;” August 14, 2014.

A-570-967 and C-570-968: Aluminum Extrusions from the People's Republic of China

Requestor: TACO Metals Inc. (“TACO”); TACO's poles, rod holders, and rod racks are outside the scope of the orders. TACO's poles, rod holders, and rod racks consist of parts that are fully and permanently assembled and completed at the time of entry, and are ready for installation in a downstream product with no further finishing or fabrication and, therefore meet the exclusion criteria for “finished goods.” Additionally, TACO's weld-on rod holders contain, at the time of importation, all of the necessary parts to fully assemble a final finished good and require no further finishing or fabrication, such as cutting or punching, and are assembled “as is” into a finished product and, therefore, meet the exclusion criteria for “finished goods kits; ” August 18, 2014.

A-570-967 and C-570-968: Aluminum Extrusions from the People's Republic of China

Requestor: Vico Plastics Inc. (“Vico”); Vico's cam-lock support poles, which are composed of three aluminum extrusion poles, along with a variety of fasteners (such as screws and locknuts) and non-extruded parts (such as stainless steel springs, a nylon cam lever, rubber crutch tips, and die-cast aluminum collars, and some models come with a plastic swivel base and ball), are outside the scope of the orders because they are finished goods containing aluminum extrusions as parts that are fully and permanently assembled and completed at the time of entry; September 12, 2014.

A-570-899: Certain Artist Canvas from the People's Republic of China

Requestor: Jiangsu Animal By-Products Import & Export Group Corp. (“JABP”); JABP's artist canvases are outside the scope of the order because the weaving and priming of the canvases, which impart the artist canvases' essential characteristics, are performed in India and not the People's Republic of China; July 23, 2014.

A-570-932: Certain Steel Threaded Rod from the People's Republic of China

Requestor: Colonial Elegance Inc.; Baluster Fasteners with a driver, and Newel Fasteners are included within the scope of the antidumping duty order because each of these products match the physical description of subject merchandise found in the order; August 1, 2014.

A-570-983 and C-570-984: Drawn Stainless Steel Sinks from the People's Republic of China

Requestor: Speakman Company (“Speakman”); Speakman's industrial bowls (that are used in Speakman's Safety Products such as Speakman eyewashes, Speakman eye/face washes, and Speakman's combination units or decontamination stations that include a shower and eyewash) are outside the scope of the orders because Speakman's industrial bowls have different ultimate purchasers, a different ultimate use, different channels of trade, and different manners in which the products are advertised or displayed than subject merchandise; July 24, 2014.

A-570-977 and C-570-978: High Pressure Steel Cylinders from the People's Republic of China

Requestor: Lenz Sales and Dist., Inc.; Lenz's certain filled cylinders with pressurized refrigerants are outside the scope of the order because Lenz's cylinders are marked with DOT 39. The plain language of scope of the antidumping and countervailing duty orders on high pressure steel cylinders from the People's Republic of China states that merchandise impressed with certain specified DOT type markings is covered by the scope; however, a DOT 39 marking is not among the DOT markings specified in the scope; September 12, 2014.

A-570-504: Petroleum Wax Candles from the People's Republic of China

Requestor: Hallmark Cards, Inc.; The Tinker Bell candle, taken in its entirety, includes wings and a purple rock base adorned with pink and yellow lilies such that it does not fit the figurine exclusion language as a human and is therefore within the scope of the order; July 23, 2014.

Interested parties are invited to comment on the completeness of this list of completed scope and anticircumvention inquiries. Any comments should be submitted to the Deputy Assistant Secretary for AD/CVD Operations, Enforcement and Compliance, International Trade Administration, 14th Street and Constitution Avenue NW., APO/Dockets Unit, Room 1870, Washington, DC 20230.

This notice is published in accordance with 19 CFR 351.225(o).

Dated: December 2, 2014.
Christian Marsh,
Deputy Assistant Secretary for Antidumping and Countervailing Duty Operations.

[FR Doc. 2014-29130 Filed 12-10-14; 8:45 am]

BILLING CODE 3510-DS-P